DEPARTMENT OF DEFENSE

Office of the Secretary

Defense Innovation Board; Notice of Federal Advisory Committee Meeting

AGENCY: Deputy Chief Management Officer, Department of Defense (DoD).

ACTION: Notice of Federal advisory committee meeting.

SUMMARY: The DoD is publishing this notice to announce a meeting of the Defense Innovation Board (“the Board”). The meeting will be closed to the public.

DATES: Date of the closed meeting: October 17 through 21, 2016.

ADDRESSES: Address of closed meeting, October 17 through 21, 2016: Military installations in the U.S. Central Command (USCENTCOM) Area of Responsibility (AOR).

FOR FURTHER INFORMATION CONTACT: The Board's Designated Federal Officer (DFO) is Roma Laster, Defense Innovation Board, 1155 Defense Pentagon, Room 5B1088A, Washington, DC 20301-1155, roma.k.laster.civ@mail.mil. The Board's Executive Director is Joshua Marcuse, Defense Innovation Board, 1155 Defense Pentagon, Room 3A1078, Washington, DC 20301-1155, joshua.j.marcuse.civ@mail.mil.

SUPPLEMENTARY INFORMATION: Due to difficulties beyond the control of the Department of Defense, the Designated Federal Officer was unable to submit the Federal Register notice pertaining to the Defense Innovation Board meeting for its scheduled meeting for October 17 through 21, 2016, that ensured compliance with the requirements of 41 CFR 102-3.150(a). Accordingly the Advisory Committee Management Officer for the Department of Defense, waives the 15-calendar day notification requirement pursuant to 41 CFR 102-3.150(b).

This meeting will be held under the provisions of the Federal Advisory Committee Act (FACA) of 1972 (5 U.S.C., Appendix, as amended), the Government in the Sunshine Act of 1976 (5 U.S.C. 552b, as amended), and 41 CFR 102-3.150.

Purpose of Meeting: During the closed meeting from October 17 through 21, 2016, the Board will receive and discuss classified briefings from senior leaders from USCENTCOM.

Agendas: October 17 through 21, 2016—Closed Meeting: The Board will hold a closed meeting to receive and discuss briefings about USCENTCOM's mission and current threat environment, warfare across domains, information sharing platforms, decision making processes, technical and structural challenges, its culture of experimentation with technologies and equipment, and the current operational tempo and its effect on innovation. All briefings and resulting discussions are classified.

Meeting Accessibility: Pursuant to 5 U.S.C. 552b(c)(1), the DoD has determined that the meeting from October 17 through 21, 2016 shall be closed to the public. The Assistant Deputy Chief Management Officer, in consultation with the Office of the DoD General Counsel, has determined in writing that the Board's meeting will be closed as the discussions will involve classified matters of national security. Such classified material is so inextricably intertwined with the unclassified material that it cannot reasonably be segregated into separate discussions without disclosing matters that are classified SECRET or higher.

Written Comments: Pursuant to section 10(a)(3) of the Federal Advisory Committee Act of 1972 and 41 CFR 102-3.140, the public or interested organizations may submit written comments to the Board about its approved agenda pertaining to this meeting or at any time regarding the Board's mission. Individuals submitting a written statement must submit their statement to the Executive Director at the address listed in the FOR FURTHER INFORMATION CONTACT section. Written statements that do not pertain to a scheduled meeting of the Board may be submitted at any time. However, if individual comments pertain to a specific topic being discussed at the planned meeting, then these statements must be received at least five business days prior to the meeting, otherwise, the comments may not be provided to or considered by the Board until a later date. The Executive Director will compile all timely submissions with the Board's Chair and ensure such submissions are provided to Board Members before the meeting.

Dated: October 5, 2016.
Aaron Siegel,
Alternate OSD Federal Register Liaison Officer, Department of Defense.

[FR Doc. 2016-24571 Filed 10-11-16; 8:45 am]

BILLING CODE 5001-06-P